SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before November 26, 2021.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: Curtis Rich, Agency Clearance Officer, (202) 205-7030 curtis.rich@sba.gov.

Copies: You may obtain a copy of the information collection and supporting documents from the Agency Clearance Officer.

SUPPLEMENTARY INFORMATION: Section 324 of the Economic Aid to Hard-Hit Small Businesses, Nonprofits, and Venues Act, (Economic Aid Act), Div. N, Title III of Public Law 116-260 (12/27/20), authorizes SBA to provide grants of up to $10 million dollars under the Shuttered Venue Operators Grant (SVOG) program to certain eligible persons or entities: A live venue operator or promoter, theatrical producer, or live performing arts organization operator, museum operator, motion picture theatre operator, or talent representative subject to the statutory eligibility requirements and the availability of funds. This information collection is used by SBA's Office of Disaster Assistance (ODA) to make a preliminary determination on whether an applicant meets certain threshold eligibility requirements to receive a SVOG award.

In order to expedite implementation of the SVOG program, SBA received emergency clearance of this information pursuant to the procedures in 5 CFR 1320.13. That approval, which included waiver of the 60-day and 30-day public comment notices, expires on October 31, 2021. SBA published the 60-day notice August 4, 2021, at 86 FR 42005; no comments were received by October 4, 2021, the comment end date. The public is once again invited to submit comments as instructed in the DATES and ADDRESSES sections above.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Title: Shuttered Venues Grant Application.

OMB Control Number: 3245-0420.

Description of Respondents: Eligible persons or entities seeking grant assistance: A live venue operator or promoter, theatrical producer, or live performing arts organization operator, museum operator, motion picture theatre operator, or talent representative.

Estimated Annual Responses: 10,000.

Estimated Annual Hour Burden: 20,000.

Curtis Rich,
Management Analyst.

[FR Doc. 2021-23313 Filed 10-26-21; 8:45 am]

BILLING CODE 8026-03-P